DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Information on Articles for Physically or Mentally Handicapped Persons Imported Free of Duty.

OMB Control Number: 0625-0118.

Form Number(s): ITA-362P.

Type of Request: Regular submission.

Burden Hours: 188.

Number of Respondents: 180.

Average Hours Per Response: 4 minutes.

Needs and Uses: When Congress enacted legislation to implement the Nairobi Protocol to the Florence Agreement, it included a provision for the Departments of Commerce and Homeland Security to collect information on the import of articles for the handicapped.

The form ITA-362P, Information on Articles for Physically or Mentally Handicapped Persons Imported Free of Duty, is the instrument by which statistical information is obtained to assess whether the duty-free treatment of articles for the handicapped has had a significant adverse impact on a domestic industry (or portion thereof) manufacturing or producing a like or directly competitive article. Without the collection of this information, it would be impossible for ITA to make a sound determination of the adverse impact and the President to appropriately redress the situation.

Affected Public: Businesses or other for-profit; not-for-profit institutions; state, local or tribal government; federal government; individuals or households.

Frequency: On occasion.

Respondent's Obligation: Required to obtain or retain a benefit.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov.

Written comments and recommendations for the proposed information collection should be sent within 30 days of publication of this notice to David Rostker, OMB Desk Officer, Fax number (202) 395-7285 or via the Internet at David_Rostker@omb.eop.gov.

Dated: November 20, 2007.
Gwellnar Banks,
Management Analyst, Office of the Chief Information Officer.

[FR Doc. E7-22997 Filed 11-26-07; 8:45 am]

BILLING CODE 3510-DS-P